NUCLEAR WASTE TECHNICAL REVIEW BOARD

Board Meeting; October 17, 2012; Idaho Falls, ID

The U.S. Nuclear Waste Technical Review Board will meet to discuss DOE work on packaging, transporting, and disposing of SNF and HLW.

Pursuant to its authority under section 5051 of Public Law 100-203, Nuclear Waste Policy Amendments Act of 1987, the U.S. Nuclear Waste Technical Review Board will hold a public meeting in Idaho Falls, Idaho, on Wednesday, October 17, 2012, to review U.S. Department of Energy (DOE) plans for the packaging, transportation, and disposition of spent nuclear fuel (SNF) and high-level radioactive waste (HLW). Among the topics that will be discussed are current activities being undertaken by DOE related to designing and planning the components of a repository system. The Nuclear Waste Policy Amendments Act of 1987 requires the Board to conduct an independent review of the technical and scientific validity of DOE activities related to nuclear waste management, including transporting, packaging, and disposing of SNF and HLW.

The Board meeting will be held at the Hilton Garden Inn, 700 Lindsay Boulevard, Idaho Falls, ID 83402; (tel.) 208-522-9500, (fax) 208-522-9501.

A block of rooms has been reserved for meeting attendees at the Hilton Garden Inn. Reservations can be made online at http://hiltongardeninn.hilton.com/en/gi/groups/personalized/I/IDAIFGI-TEC-20121014/index.jhtml?WT.mc_id=POG; Group Name: Nuclear Waste Technical Review Board Meeting; Group Code: TEC, or by calling 208-522-9500. Reservations must be made by October 7, 2012, to ensure receiving the meeting rate.

The meeting will begin at 8:00 a.m. on Wednesday morning with a call to order and introductory statement by the Board Chairman. A panel composed of representatives of several state regional organizations from around the country will then present their views on the recommendations of the Blue Ribbon Commission on America's Nuclear Future on transporting SNF. Completing the morning's agenda, DOE representatives will present the following: an overview on current activities being undertaken by DOE's Office of Used Fuel Disposition, an update on the Used Fuel Disposition System Architecture Study underway at Argonne National Laboratory, and a discussion of logistical and operational issues associated with the transport of “orphaned” SNF. The afternoon will be devoted to following up on information presented by DOE at the Board's January 2012 meeting in Arlington, Virginia, including discussions of additional thermal analyses of repository concepts involving open, or ventilated, systems.

A detailed meeting agenda will be available on the Board's Web site: www.nwtrb.gov, approximately one week before the meeting. The agenda also may be obtained by telephone request at that time. The meeting will be open to the public, and opportunities for public comment will be provided. Those wanting to speak are encouraged to sign the “Public Comment Register” at the check-in table. It may be necessary to set a time limit on individual remarks, but written comments of any length may be submitted for the record.

Transcripts of the meeting will be available on the Board's Web site, by email, on computer disk, and in paper format on library-loan from Davonya Barnes of the Board's staff no later than November 5, 2012.

The Board was established as an independent federal agency to provide objective expert advice to Congress and the Secretary of Energy on technical issues and to review the technical validity of DOE activities related to implementing the NWPA. Board members are experts in their fields and are appointed to the Board by the President from a list of candidates submitted by the National Academy of Sciences. The Board is required to report to Congress and the Secretary no fewer than two times each year. All Board reports, correspondence, congressional testimony, and meeting transcripts and related materials are posted on the Board's Web site.

For information on the meeting agenda, contact Daniel Metlay: metlay@nwtrb.gov. For information on lodging or logistics, contact Linda Coultry: coultry@nwtrb.gov. Both also can be reached by mail at 2300 Clarendon Boulevard, Suite 1300; Arlington, VA 22201-3367; by telephone at 703-235-4473; or by fax at 703-235-4495.

Dated: September 7, 2012.
Nigel Mote,
Executive Director, U.S. Nuclear Waste Technical Review Board.

[FR Doc. 2012-22388 Filed 9-11-12; 8:45 am]

BILLING CODE 6820-AM-M